DEPARTMENT OF STATE

[Public Notice 3301]

Bureau of Educational and Cultural Affairs; Fulbright Teacher Exchange Program

ACTION: Request for Proposals.

SUMMARY: The Office of Global Educational Programs/Fulbright Teacher and Administrator Program of the Bureau of Educational and Cultural Affairs announces an open competition. Public and private non-profit organizations meeting the provisions described in IRS regulation 26 CFR 1.501(c) may submit proposals to provide administrative and program services for the Fulbright Teacher and Administrator Exchange Program. The total FY2001 grant award for program and administrative expenses may not exceed $1,322,000. Examples of services provided by the cooperating agency include: creating and updating handbooks and publicity materials; conducting recruitment campaigns and mailings; processing of all U.S. applications; pre-matching U.S. participants with foreign counterparts; monitoring program activities; paying stipends to and withholding taxes for selected foreign grantees; supporting special projects; administering alumni activities; and providing logistical support for Fall regional meetings and pre-orientation May workshops.

Program Information

Overview: The Fulbright Teacher and Administrator Program provides opportunities for teachers, administrators, and other school or college faculty to participate in direct exchanges of positions with colleagues from other countries for six weeks, a semester, or a full academic year.

The program provides a rich professional growth opportunity while enhancing mutual understanding among foreign and U.S. teachers, administrators, and their students. The major program components include alumni relations, recruitment and outreach, participant matching, the administration of training and professional meeting programs, and monitoring and evaluation protocols. The cooperating agency must maintain a flexible approach in response to changing program needs and priorities. Effective and direct communications between the cooperating agency and the Fulbright Teacher Exchange Branch will be necessary at all times. Bi-monthly meetings, and other meetings pertaining to the grant's core program components will be held on a regular basis. The cooperating agency will also be responsible for maintaining telephone, e-mail, and fax communications with appropriate Branch and ECA staff.

Alumni Program

A new alumni program initiative emphasizes the development of alumni groups throughout the United States. The cooperating agency will provide support to individual American alumni and assist them in developing their respective alumni groups. Alumni groups may develop small projects funded through this grant to enhance the program.

Recruitment and Outreach

U.S. program participants are recruited through a nation-wide recruitment campaign conducted by the cooperating agency, based on teachers' and administrators' professional background and leadership potential. Foreign exchange participants are recruited and nominated by U.S. embassies or overseas Fulbright Commissions. To qualify for the program, participants must have a minimum of three years professional experience, hold an equivalent full-time teaching position and a Bachelor's degree, and be fluent in English.

The cooperating agency will submit a yearly recruitment and outreach plan to the Branch and will be responsible for all recruitment activities including attendance at conferences, mass mailings of promotional materials, web site development, and responses to general inquires.

Matching

All U.S. candidates are interviewed by volunteer peer review committees and are matched with foreign partners whose professional and personal backgrounds are congruent with the backgrounds of their American partner. The cooperating agency forwards candidate dossiers to over 30 countries for consideration. The dossiers are evaluated and matched by either the Fulbright Commission, the public affairs section of the U.S. Embassy, or an in-country hosting organization depending upon which organization implements the program in country. All final matches must be mutually agreed upon by the U.S. and foreign program representatives.

Professional Meeting Program

Regional meetings for U.S.-based foreign teachers are held at seven locations in the U.S. in the Fall of each academic year and are designed to broach the challenges of adjusting to teaching and living in the U.S. In addition, Spring meetings are held at about 20 to 25 regional sites in the U.S., and represent the first step in preparing U.S. teachers for their overseas exchanges. Spring meetings also assist the foreign teachers in preparing for re-entry in their own countries. The cooperating agency will be responsible for obtaining local administrative and program support for both Fall and Spring meetings and will assist in staffing a portion of the meetings.

Monitoring

During the academic year, the cooperating agency monitors the professional and personal well-being of the foreign teachers. Staff members from the cooperating organization evaluate and counsel foreign participants at approximately seven Fall and 20 to 25 May meetings. In addition, the cooperating agency will staff a full-time position solely for monitoring and supporting program participants. The cooperating agency consults with Branch staff and provides written reports on any issue that may adversely affect an exchange or the program in general.

Evaluation

The cooperating agency will also be responsible for developing a summative program evaluation at the end of each academic year. The evaluation will include, but not be limited to, an assessment of the effectiveness of each of the program components and may include suggestions for program improvement and innovation.

Guidelines

Approximately 200 exchanges (400 participants) are conducted yearly. The grant will begin on October 1, 2000 and will run through September 30, 2003. The administrative portion of the grant will only cover October 1, 2000 to September 30, 2001. The grant may be renewed annually for up to three years. Program participants will be recruited nationwide and from the full range of the teaching profession from primary to university level. The cooperating agency will also provide support for approximately 200 foreign teachers and administrators from approximately 30 countries.

Applicants are requested to submit a narrative outlining their overall strategy for the administration and implementation of the Fulbright Teacher and Administrator Exchange Program as outlined in the RFP. In developing this strategy, applicants should provide a vision of the Program as a whole, interpreting the goals of the Program with creativity, as well as providing innovative ideas and recommendations. All administrative costs submitted for this competition must be reasonable and appropriate.

This grant will include both the administrative and program portions of the Fulbright Teacher Exchange Program as noted in this RFP and in the POGI. The FY 2001 cooperative agreement, which this announcement covers, will be a transition year during which the successful organization will have responsibility for all aspects of the program with the exception of the monitoring of program participants through December 30, 2001, and implementation of Fall meetings which will be funded out of the FY 2000 cooperative agreement budget.

The FY 2000 administrative agreement with the current administering organization will be amended (with approximately $67,000 in FY 2001 funds allocated to the amended FY 2000 cooperative agreement). The amendment would cover personnel and facility costs for supporting Fall meetings (budgeted in the FY 2000 cooperative agreement) and the monitoring of all U.S.-based program participants from October 1, 2000 to December 30, 2000. The new contract agency will take over responsibility for program monitoring and all meetings beginning January 1, 2001. In FY 2002 and subsequent years, if the grant is renewed, the successful organization would additionally be responsible for monitoring the program of current year participants for the full year and implementation of Fall meetings.

Programs must comply with J-1 visa regulations. Please refer to Solicitation Package for further information.

Budget Guidelines

Grants awarded to eligible organizations with less than four years of experience in conducting international exchange programs will be limited to $60,000.

Applicants must submit a comprehensive budget for the entire program. Awards may not exceed $1,322,000. Applicants who submit a budget exceeding $1,322,000 will be deemed technically ineligible. There must be a summary budget as well as breakdowns reflecting both administrative and program budgets. The administrative budget should not exceed $791,000, which includes the $67,000 that would be allocated to the previous cooperating agency for monitoring and Fall meeting activities for the first quarter of the fiscal year. The program budget should include costs for stipends and tax payments, and transportation and per diem cost for Fall meeting participants and the cost of compensation provide to hosting organizations. Applicants may provide separate sub-budgets for each program component, phase, location, or activity to provide clarification. Personnel Overhead and G & A costs must not exceed the rate negotiated between the grantee organizations and their cognizant agency. Allowable costs for the program include salaries and benefits of grantee organization, and administrative and program costs for the program as outlined in the POGI.

Please refer to the Solicitation Package for complete budget guidelines and formatting instructions.

Announcement Title and Number: All correspondence with the Bureau concerning this RFP should reference the above title and number ECA/A/S/X-01-01.

FOR FURTHER INFORMATION, CONTACT: The Fulbright Teacher Exchange Branch of the Department of State's Bureau of Educational and Cultural Affairs, (ECA/A/S/X) SA-44, 301 4th Street, S.W., Washington, D.C. 20547, telephone (202) 619-4569 and fax number (202) 401-1433 to request a Solicitation Package. The Solicitation Package contains detailed award criteria, required application forms, specific budget instructions, and standard guidelines for proposal preparation. Please specify Bureau Program Officer John Cox on all other inquiries and correspondence.

Please read the complete Federal Register announcement before sending inquiries or submitting proposals. Once the RFP deadline has passed, Bureau staff may not discuss this competition with applicants until the proposal review process has been completed.

To Download A Solicitation Package Via Internet: The entire Solicitation Package may be downloaded from the ECA's website at http://exchanges.state.gov/education/rfps. Please read all information before downloading.

Deadline for Proposals: All proposal copies must be received at the Bureau of Educational and Cultural Affairs (ECA) by 5 p.m., Washington, DC time on Friday, June 9, 2000. Faxed documents will not be accepted at any time. Documents postmarked the due date but received on a later date will not be accepted. Each applicant must ensure that the proposals are received by the above deadline.

Applicants must follow all instructions in the Solicitation Package. The original and 10 copies of the application should be sent to:

U.S. Department of State, Bureau of Educational and Cultural Affairs, SA—44, Ref.: ECA/A/S/X-01-01, Office of Program Management, ECA/EX/PM, Room 336, 301 4th Street, SW., Washington, DC 20547.

Diversity, Freedom and Democracy Guidelines: Pursuant to the ECA's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” ECA “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with ECA. The inability to process information in accordance with Federal requirements could result in grantees' being required to return funds that have not been accounted for properly.

ECA therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

ECA will acknowledge receipt of all proposals and will review them for technical eligibility. Proposals will be deemed ineligible if they do not fully adhere to the guidelines stated herein and in the Solicitation Package. All eligible proposals will be reviewed by the program office, as well as the Public Affairs section of U.S. Embassies, where appropriate. Eligible proposals will be forwarded to panels of Bureau officers for advisory review. Proposals may also be reviewed by the Office of the Legal Adviser or by other Department elements. Final funding decisions are at the discretion of the Department of State's Under Secretary for Public Diplomacy and Public Affairs. Final technical authority for assistance awards (grants or cooperative agreements) resides with the ECA's Grants Officer.

Review Criteria

Technically eligible applications will be competitively reviewed according to the criteria stated below. These criteria are not rank ordered and all carry equal weight in the proposal evaluation:

1. Quality and Clarity of the Program planning: Proposals should exhibit originality, substance, precision, and relevance to the Bureau's mission. Detailed agenda and relevant work plan should demonstrate substantive undertakings and logistical capacity. Agenda and plan should adhere to the program overview and guidelines described above.

2. Support of Diversity: Proposals should demonstrate substantive support of the Bureau's policy on diversity. Achievable and relevant features should be cited in both program administration (selection of participants, program venue and program evaluation) and program content (orientation and wrap-up sessions, program meetings, resource materials and follow-up activities).

3. Institutional Capacity: Proposed personnel and institutional resources should be adequate and appropriate to achieve the program or project's goals. Proposals should demonstrate an institutional record of successful program planning and implementation, including responsible fiscal management and full compliance with all reporting requirements. The Bureau will consider the past performance of prior recipients and the demonstrated potential of new applicants.

4. Project Evaluation: Proposals should include a plan to evaluate the activity's success, both as the activities unfold and at the end of the program. A draft survey questionnaire or other technique plus description of a methodology to use to link outcomes to original project objectives are recommended. Successful applicants will be expected to submit intermediate reports after each project component is concluded or quarterly, whichever is less frequent.

5. Cost-effectiveness and Cost-sharing: The overhead and administrative components of the proposal, including salaries and honoraria, should be kept as low as possible. All other items should be necessary and appropriate. Proposals should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFP are binding and may not be modified by any Bureau representative. Explanatory information provided by ECA that contradicts published language will not be binding. Issuance of the RFP does not constitute an award commitment on the part of the Government. ECA reserves the right to reduce, revise, or increase proposal budgets in accordance with the needs of the program and the availability of funds. Awards made will be subject to periodic reporting and evaluation requirements.

Notification

Final awards cannot be made until funds have been appropriated by Congress, allocated and committed through internal Bureau procedures.

Dated: April 20, 2000.
Evelyn S. Liebermann,
Under Secretary for Public Diplomacy and Public Affairs, Department of State.

[FR Doc. 00-10507 Filed 4-26-00; 8:45 am]

BILLING CODE 4710-11-P